DEPARTMENT OF COMMERCE

National Oceanic and Atmospheric Administration

[XRIN: 0648-XA95]

Caribbean Fishery Management Council; Public Meeting

AGENCY: National Marine Fisheries Service (NMFS), National Oceanic and Atmospheric Administration (NOAA), Commerce.

ACTION: Notice of a public meeting.

SUMMARY: The Caribbean Fishery Management Council's Charter Boat Ad Hoc Committee will hold a meeting.

DATES: The Charter Boat Ad Hoc Committee will meet on July 18, 2007, from 10:30 a.m. to 3:30 p.m.

ADDRESSES: The meeting will be held at the Best Western San Juan Airport Hotel and Casino, located at the Luis Munoz Marin International Airport, Carolina, Puerto Rico.

FOR FURTHER INFORMATION CONTACT: Caribbean Fishery Management Council, 268 Munoz Rivera Avenue, Suite 1108, San Juan, Puerto Rico 00918, telephone: (787) 766-5926.

SUPPLEMENTARY INFORMATION: The Charter Boat Ad Hoc Committee will meet to discuss the items contained in the following agenda:

July 18, 2007, 10:30 a.m.-3:30 p.m.

-Call to Order

-Adoption of agenda

-Discussion of the White Paper on the Sale of Catch by Charter/Recreational Fishers in the U.S. Caribbean by the Charter Boat Ad Hoc Committee of the CFMC

-Other Business

The meeting is open to the public, and will be conducted in English. Fishers and other interested persons are invited to attend and participate with oral or written statements regarding agenda issues.

Special Accommodations

This meeting is physically accessible to people with disabilities. For more information or request for sign language interpretation and/other auxiliary aids, please contact Mr. Miguel A. Rolon, Executive Director, Caribbean Fishery Management Council, 268 Munoz Rivera Avenue, Suite 1108, San Juan, Puerto Rico, 00918; telephone: (787) 766-5926, at least 5 days prior to the meeting date.

Dated: June 19, 2007.
Tracey L. Thompson,
Acting Director, Office of Sustainable Fisheries, National Marine Fisheries Service.

[FR Doc. E7-12112 Filed 6-21-07; 8:45 am]

BILLING CODE 3510-22-S